DEPARTMENT OF ENERGY

Federal Energy Regulatory Commission

[Docket No. CP04-055-000]

Northwest Pipeline Corporation and Terasen Sumas Inc.; Notice of Application

January 29, 2004.

Take Notice that on January 20, 2004, Terasen Sumas Inc. (Sumas) and Northwest Pipeline Corporation (Northwest) jointly filed in Docket No. CP04-055-000, an application pursuant to section 3 of the Natural Gas Act (NGA), part 153 of the regulations of the Federal Energy Regulatory Commission (Commission), Executive Order Nos. 10485 and 12038 and the Secretary of Energy's Delegation Order No. 0204-112 to transfer from Sumas to Northwest the authorization and Presidential Permit previously issued to Sumas in CP92-259-000. Sumas requests the Commission to issue an order transferring to Northwest the NGA section 3 authorization and Presidential Permit to operate and maintain facilities ¹ at the international boundary between the United States and Canada in Whatcom County, Washington and near Sumas, Washington (the Facilities) for the importation and exportation of natural gas with Canada. This filing is available for review at the Commission in the Public Reference Room or may be viewed on the Commission's Web site at http://www.ferc.gov using the “e-Library” link. Enter the docket number excluding the last three digits in the docket number field to access the document. For assistance, contact FERC at FERCOnlineSupport@ferc.gov or call toll-free, (866) 208-3676, or for TTY, (202) 502-8659.

¹ Sumas has filed in CP04-56-000 to abandon by sale the facilities consisting of 205 feet of 24-inch diameter pipeline operated under the NGA section 3 authorization and Presidential Permit issued in CP92-259-000 to Northwest.

Any questions concerning this application may be directed to Cynthia Des Brisay, Director, Business Development, Terasen Sumas Inc., 16705 Fraser Highway, Surrey, British Columbia, Canada, V3S 2X7, at (604) 592-7837 or fax (604) 592-7620 or Gary K. Kotter, Manager, Certificates and Tariffs—3C1, Northwest Pipeline Corporation, P.O. Box 58900, Salt Lake City, Utah 84158-0900, at (801) 584-7117 or fax (801) 584-7764.

There are two ways to become involved in the Commission's review of this project. First, any person wishing to obtain legal status by becoming a party to the proceedings for this project should file with the Federal Energy Regulatory Commission, 888 First Street, NE., Washington, DC 20426, a motion to intervene in accordance with the requirements of the Commission's Rules of Practice and Procedure (18 CFR 385.214 or 385.211) and the Regulations under the NGA (18 CFR 157.10) by the comment date, below. A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken; but the filing of a comment alone will not serve to make the filer a party to the proceeding. The Commission's rules require that persons filing comments in opposition to the project provide copies of their protests only to the party or parties directly involved in the protest.

Protests and interventions may be filed electronically via the Internet in lieu of paper; See, 18 CFR 385.2001(a)(1)(iii) and the instructions on the Commission's Web site under the “e-Filing” link. The Commission strongly encourages electronic filings. If the Commission decides to set the application for a formal hearing before an Administrative Law Judge, the Commission will issue another notice describing that process. At the end of the Commission's review process, a final Commission order approving or denying an application will be issued.Comment Date: February 19, 2004.

Magalie R. Salas,
Secretary.

[FR Doc. E4-189 Filed 2-4-04; 8:45 am]

BILLING CODE 6717-01